FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Transactions Granted Early Termination, 05/01/2006-06/02/2006
Transaction No. | Acquiring | Acquired | Entities
20060903 | Macquarie Bank Limited | Jimmy L. Allen | Alabama River Parkway, LLC. Black Warrior Parkway, LLC. Emerald Mountain Expressway Bridge, LLC. Toll Operations, LLC.
20060980 | Wayzata Opportunities Fund, LLC | Anchor Glass Container Corporation | Anchor Glass Container Corporation.
20060992 | The Fourth Viscount of Rothermere | OCM/GFI Fund I | Genscape, Inc.
20060993 | Audax Private Equity Fund II, L.P | Linda Burdman Fine | CIBT Holdings, Inc.
Transactions Granted Early Termination, 05/02/2006
20060977 | Danaher Corporation | Sybron Dental Specialties Inc | Sybron Dental Specialties Inc.
Transactions Granted Early Termination, 05/04/2006
20060973 | Amdocs Limited | Qpass Inc | Qpass Inc.
20061005 | Square Holdings S.A. | Mr. Hein Deprez | De Weide Bilk N.V.
Transactions Granted Early Termination, 05/08/2006
20060697 | Coherent, Inc | Excel Technology, Inc | Excel Technology, Inc.
20060932 | Mitchell Jacobson | Kennametal Inc | J&L America, Inc.
20060961 | American Capital Strategies, Ltd | Avery Weigh-Tronix Holdings, Inc | Avery Weight-Tronix Holdings Limited.
20060969 | Audax Private Equity Fund II, L.P | The Michael R. Shaughnessy Living Trust dtd August 31, 2000 | The ColorMatrix Corporation.
20060970 | Audax Private Equity Fund II, L.P | The John C. Haugh Living Trust dated Augst 18, 2000 | The ColorMatrix Corporation.
20060983 | TCV IV, L.P | Redback Networks Inc | Redback Networks Inc.
20061000 | Level 3 Communications, Inc | MCCC ICG Holdings, LLC | ICG Communications, Inc.
20061003 | Forstmann Little & Co. Equity Partnership VII, L.P | Elyse N. Kroll | ENK Productions, Ltd.
20061010 | EQT IV No. 1 LP | Compass Group PLC | Compass Group PLC.
20061016 | Apache Corporation | BP p.l.c | BP America Production Company.
20061019 | Oracle Corporation | Portal Software, Inc | Portal Software, Inc.
Transactions Granted Early Termination, 05/09/2006
20061024 | The Bank of New York Company, Inc | JPMorgan Chase & Co | J.P. Morgan Trust Australia Limited.
Transactions Granted by Early Termination, 05/10/2006
20060759 | KLA—Tencor Corporation | ADE Corporation. | ADE Corporation. Corus Aluminium Corp. Corus Aluminium GmbH. Corus Aluminium Inc. Corus Aluminium NV. Corus Aluminium Rolled Products BV. Corus Hylite BV. Corus LP. Hoogovens Aluminium Europe Inc.
20061038 | Sprint Nextel Corporation | UbiquiTel Inc | UbiquiTel Inc.
Transactions Granted by Early Termination, 05/11/2006
20061015 | Pfizer Inc | Rinat Neuroscience Corp | Rinat Neuroscience Corp.
Transactions Granted by Early Termination, 05/12/2006
20060971 | Activision Incorporated | Red Octane, Inc | Red Octane, Inc.
20060979 | BDCM Opportunity Fund, L.P | Bayou Steel Corporation | Bayou Steel Corporation.
20060996 | E.C. Barton & Company Employee Stock Ownership Trust | JELD-WEN HOLDING, inc | JELD-WEN, inc.
20061042 | Senior Care Real Estate Investment Trust | Lillian Trust, c/o RBC Trustees (Guernsey) Limited | Balanced Care Corporation PC (MT) Holdco, Inc. United Rehab MLC Holding, LLC.
20061045 | AMVESCAP PLC | PowerShares Capital Management LLC | PowerShares Capital Management LLC.
20061070 | FIF III Liberty Holdings LLC | Heritage Fund III, L.P | Enterprise NewsMedia Holding, LLC Heritage Partners Media, Inc.
Transactions Granted Early Termination, 05/15/2006
20060926 | Highfields Capital Ltd | Pioneer Natural Resources Company | Pioneer Natural Resources Company.
20060928 | Highfields Capital II LP | Pioneer Natural Resources Company | Pioneer Natural Resources Company.
20060988 | UBS AG | Piper Jaffray Companies | Piper Jaffray & Co.
20060989 | FPI Holding Corporation | American Capital Strategies, Ltd | Fruit Patch Sales LLC.
20061051 | Wachovia Corporation | Ameriprise Financial, Inc | Ameriprise Trust Company.
20061058 | Joseph C. Grendys | Sylvest Farms, Inc. | Sylvest Farms, Inc. Sylvest Farms Management Services, Inc. Sylvest Foods Corporation.
20061066 | Applied Materials, Inc. | Applied Films Corporation | Applied Films Corporation.
Transactions Granted Early Termination, 05/16/2006
20060960 | Antonia Johnson | William C. Prior | Kinetico Incorporated.
20060975 | Office Depot, Inc. | New AOS Acquisition Corp | New AOS Acquisition Corp.
20061007 | Covance Inc. | Radiant Research Inc | Radiant Research Inc.
20061054 | Green Mountain coffee Roasters, Inc | Memorial Drive Trust | Keurig, Incorporated.
Transactions Granted Early Termination, 05/17/2006
20061046 | Macquarie Infrastructure Company Trust | CapStreet II, L.P | Trajen Holdings, Inc.
20061050 | Societe Lorraine de Participations Siderurgiques SLPS, S.A | Carl Deutsch | Deutsch Engineering Connecting Devices.
20061068 | Lightyear Fund II, L.P | White Mountains Insurance Group, Ltd | Sirius America Insurance Company.
Transactions Granted Early Termination, 05/18/2006
20061067 | International Power plc | Sempra Energy | Coleto Creek Power, LP.
20061095 | Lake Capital Partners II LP | Jeff Haggin | Haggin Marketing, Inc.
Transactions Granted Early Termination, 05/22/2006
20051684 | Precision Castparts Corp | Special Metals Corporation | Special Metals Corporation.
20061001 | ICAP Plc | EBS Group Limited | EBS Group Limited.
20061041 | K+S Aktiengesellschaft | Prospecta Minera Ltda | Sociedad Punta del Lobos S.A.
20061056 | StanCorp Financial Group, Inc. | Invesmart, Inc | Invesmart, Inc.
20061069 | TCV IV, L.P. | Netflix, Inc | Netflix, Inc.
20061071 | H.I.G. Bayside Opportunity Fund, L.P | EYAS International, Inc | Easy Gardener Products, Ltd Weatherly Consumer Products Group, Inc. Weatherly Consumer Products , Inc.
20061072 | Weston Presidio V, L.P | Charterhouse Equity Partners III, L.P | Cellu Paper Holdings, Inc.
20061074 | FPC Holdings, Inc | Aurora Equity Partners II, L.P | FleetPride Corporation.
20061075 | JDA Software Group, Inc | Manugistics Group, Inc | Manugistics Group, Inc.
20061076 | Zensho Co., Ltd | Catalina Restaurant Group Inc | Catalina Restaurant Group Inc.
20061077 | Wizard Parent LLC | NetlQ Corporation | NetlQ Corporation.
20061081 | Citigroup Inc | Western Dental Services, Inc | Western Dental Services, Inc.
20061084 | FIF III Liberty Holdings LLC | MVVT, LLC | CP Media, Inc.
20061087 | Mead Westvaco Corporation | Compagnie de Saint-Gobain | Saint-Gobain Calmar Brasil Ltda. Saint-Gobain Calmar, Inc. Saint-Gobain Calmar Microspray S.r.l. Saint-Gobain Calmar, S.A. Saint-Gobain Calmar Corporation Saint-Gobain Delaware Corporation Saint-Gobain Desjonqueres North America, Inc. Saint-Gobain Kipfenberg GmbH Saint-Gobain La Granja S.A. Saint-Gobain Sekurit Mexico S.A. de C.V. Saint-Gobain Vetri S.p.A. Saint-Gobain Vidros S.A.
20061090 | Area Corporate Opportunities Fund II, L.P | Aspen Dental Management, Inc | Aspen Dental Management, Inc.
20061093 | Devon Energy Corporation | Trevor D. Rees-Jones | Chief Holdings LLC
20061094 | GTCR Fund VIII, L.P | Olympus Growth Fund III, L.P | GLL Holdinghs, Inc.
20061098 | Merrill Lynch & Co., Inc | PODS, Inc | PODS, Inc.
20061105 | Newco | Mars, Incorporated | Mars, Incorporated.
Transaction Granted Early Termination, 05/23/2006
20061049 | Reynolds American Inc | Asworth Corporation | New Asworth Corporation.
20061099 | Mrs, Incorporated | Doane Pet Care Enterprise, Inc | Doane Pet Care Enterprises, Inc.
20061103 | Pan Fish ASA | Nutreco Holding N.V. | Marine Harvest N.V.
Transaction Granted Early Termination, 05/24/2006
20060896 | L-3 Communications Holdings Inc | Parthenon Investors, L.P | SSG Precision Optronics, Inc.
20061014 | Hologic, Inc | R2 Technology, Inc | R2 Technology, Inc.
20061107 | Bourns, Inc | David S. Baum | SSI Technologies, Inc.
Transaction Granted Early Termination, 05/26/2006
20061035 | Millipore Corporation | Serologicals Corporation | Serologicals Corporation.
20061108 | Avocent Corporation | LANDesk Group Limited | LANDesk Group Limited.
20061109 | NICE-Systems Ltd. | Tekelec | IEX Corporation.
20061111 | United Site Services Holdings, Inc | Odyssey. Investment Partners Fund, L.P | United Site Services, Inc.
20061112 | Harbinger Capital Partners Offshore Fund 1, Ltd. | WCI Steel, Inc | WCI Steel, Inc.
20061114 | Continental AG | Motorola, Inc | Motorola. (China) Electronics Ltd. Motorola GmbH Motorola Ltd. Motorola S.A.S.
20061115 | Berkshire Hathaway Inc | Wertheimer Company Ltd. | IMC International Metalworking Companies R.V.
20061119 | Castle Harlan Partners IV, L.P | Willis Stein & Partners III, L.P | Baker & Taylor Acquisition Corp.
20061121 | Lerner Enterprises, LLC | Baseball Expos, L.P | Baseball Expos, L.P.
20061123 | Linden Capital Partners LP | The Children's Memorial Medical Center | Focused Health Solutions Holdings, Inc.
20061128 | GS Capital Partners V, L.P | J. Douglas Williams | iHealth Technologies, Inc.
20061138 | The Hearst Family Trust | Jeffrey H. Smulyan | Emmis Television Broadcasting, L.P.
20061140 | NF Acquisition Corporation | Olympus Growth Fund III, L.P | Staffco Holdings, Inc.
20061142 | Thomas H. Lee Equity Fund VI, L.P | Midwest Renewables LC | Hawkeye Intermediate, LLC.
20061144 | Mellon Financial Corporation | Dr. Walter Grant Scot | Walter Scott & Partners Limited.
20061145 | OnLine Resources Corporation | Princeton eCom Corporation | Princeton eCom Corporation.
Transaction Granted Early Termination, 05/30/2006
20061013 | Trian Star Trust | Wendy's International, Inc | Wendy's International, Inc.
20061053 | Cardinal Health, Inc | The F. Dohmen Co. | Anoka LLC Dohmen Distribution Partners Dohmen Distribution Partners Southeast L.L.C.
20061092 | Iconix Brand Group, Inc | Mossimo Giannulli | Mossimo Inc.
20061101 | Crosstex Energy, Inc | Trevor D. Rees-Jones | Chief Midstream Holdings LLC.
20061152 | U.S. TelePacific Holdings Corp. | Mpower Holding Corporation | Mpower Holding Corporation.
Transaction Granted Early Termination, 05/31/2006
20061146 | CHS Private Equity V LP | Home Acres Building Supply Co. | Home Acres Building Supply Co.
Transaction Granted Early Termination, 06/01/2006
20060573 | GATX Corporation | Oglebay Norton Company | Olglebay Norton Marine Services Company, LLC.
20061064 | Merck & Co., Inc | GlycoFi, Inc | GlycoFi, Inc.
Transaction Granted Early Termination, 06/02/2006
20061124 | Tom L. Ward | N. Malone Mitchell, 3rd | Riata Energy, Inc.
20061125 | Level 3 Communications, Inc | TelCove, Inc | TelCove, Inc.

FOR FURTHER INFORMATION CONTACT: Sandra M. Peay, Contact Representative, or Renee Hallman, Contact Representative, Federal Trade Commission, Premerger Notification Office, Bureau of Competition, Room H-303, Washington, DC 20580. (202) 326-3100.

By Direction of the Commission.
Donald S. Clark,
Secretary.

[FR Doc. 06-5392 Filed 6-13-06; 8:45 am]

BILLING CODE 6750-01-M